DEPARTMENT OF AGRICULTURE

Animal and Plant Health Inspection Service

[Docket No. APHIS-2016-0048]

Addition of the Republic of Korea to the List of Regions Affected by Contagious Equine Metritis

AGENCY: Animal and Plant Health Inspection Service, USDA.

ACTION: Notice.

SUMMARY: We are advising the public that we have added the Republic of Korea to the Animal and Plant Health Inspection Service (APHIS) list maintained on the APHIS Web site of regions considered affected with contagious equine metritis (CEM). We took this action because of the confirmation of CEM in the Republic of Korea.

DATES: Effective Date: The addition of the Republic of Korea to the APHIS list of regions considered affected with CEM is effective retroactively to May 7, 2015.

FOR FURTHER INFORMATION CONTACT: Mr. Javier Vargas, Import Risk Analyst, National Import Export Services, VS, APHIS, 4700 River Road, Unit 38, Riverdale, MD 20737; (301) 851-3300; Javier.Vargas@aphis.usda.gov.

SUPPLEMENTARY INFORMATION: The regulations in 9 CFR part 93 (referred to below as the regulations) prohibit or restrict the importation of certain animals into the United States to prevent the introduction of communicable diseases of livestock. Subpart C—Horses, §§ 93.300 through 93.326, pertains to the importation of horses into the United States. Sections 93.301 and 93.304 of the regulations contain specific provisions for the importation of horses from regions affected with contagious equine metritis (CEM), which is a highly contagious venereal disease of horses and other equines caused by an infection with the bacterium Taylorella equigenitalis. A list of regions that the Animal and Plant Health Inspection Service (APHIS) considers to be affected with CEM or that trade horses freely with a region in which CEM exists without testing for CEM is maintained on the APHIS Web site at https://www.aphis.usda.gov/aphis/ourfocus/animalhealth/animal-and-animal-product-import-information/ct_animal_disease_status.

APHIS receives notice of CEM outbreaks from veterinary officials of the exporting country, from the World Organization for Animal Health (OIE), or from other sources the Administrator determines to be reliable. On June 19, 2015, the veterinary authorities of the Republic of Korea reported to the OIE that subclinical infections of T. equigenitalis had been confirmed in 17 horses held in 7 locations in Jejudo on May 7, 2015.

In response to this outbreak, APHIS added the Republic of Korea to the list of regions where CEM exists or is reasonably believed to exist. As a result, horses and other equines from the Republic of Korea are subject to APHIS import restrictions designed to mitigate risk of CEM introduction into the United States. These restrictions are effective retroactively to May 7, 2015.

Authority: 7 U.S.C. 1622 and 8301-8317; 21 U.S.C. 136 and 136a; 31 U.S.C. 9701; 7 CFR 2.22, 2.80, and 371.4.

Done in Washington, DC, this 13th day of January 2017.
Kevin Shea,
Administrator, Animal and Plant Health Inspection Service.

[FR Doc. 2017-01394 Filed 1-19-17; 8:45 am]

BILLING CODE 3410-34-P